DEPARTMENT OF COMMERCE

National Oceanic and Atmospheric Administration

Evaluation of National Estuarine Research Reserve

AGENCY: National Oceanic and Atmospheric Administration (NOAA), Office of Ocean and Coastal Resource Management, National Ocean Service, Commerce.

ACTION: Notice of intent to evaluate.

SUMMARY: The NOAA Office of Ocean and Coastal Resource Management (OCRM) announces its intent to evaluate the performance of the Apalachicola National Estuarine Research Reserve.

The National Estuarine Research Reserve evaluation will be conducted pursuant to sections 312 and 315 of the CZMA and regulations at 15 CFR part 921, subpart E and part 923, subpart L. Evaluation of a National Estuarine Research Reserve requires findings concerning the extent to which a state has met the national objectives, adhered to its Reserve final management plan approved by the Secretary of Commerce, and adhered to the terms of financial assistance awards funded under the CZMA.

The evaluation will include a public meeting, consideration of written public comments and consultations with interested Federal, state, and local agencies and members of the public. When the evaluation is completed, OCRM will place a notice in the Federal Register announcing the availability of the Final Evaluation Findings. Notice is hereby given of the date, local time, and location of the public meeting.

DATES: Date and Time: The Apalachicola National Estuarine Research Reserve public meeting will be held July 1, 2014, at 6:30 p.m. at Apalachicola National Estuarine Research Reserve, 108 Island Drive, Eastpoint, Florida 32328.

ADDRESSES: Copies of the reserve's most recent performance report, as well as OCRM's evaluation notification letter to the state, are available upon request from OCRM. Written comments from interested parties regarding these programs are encouraged and will be accepted until July 11, 2014. Please direct written comments to Carrie Hall, Evaluator, National Policy and Evaluation Division, Office of Ocean and Coastal Resource Management, NOS/NOAA, 1305 East-West Highway, 10th Floor, N/ORM7, Silver Spring, Maryland 20910, or carrie.hall@noaa.gov.

FOR FURTHER INFORMATION CONTACT: Carrie Hall, Evaluator, National Policy and Evaluation Division, Office of Ocean and Coastal Resource Management, NOS/NOAA, 1305 East-West Highway, 10th Floor, N/ORM7, Silver Spring, Maryland 20910, (301) 563-1135, or carrie.hall@noaa.gov.

Federal Domestic Assistance Catalog 11.419 Coastal Zone Management Program Administration

Dated: May 13, 2014.
Christopher C. Cartwright,
Associate Assistant Administrator for Management and CFO/CAO, Ocean Services and Coastal Zone Management National Oceanic and Atmospheric Administration.

[FR Doc. 2014-11737 Filed 5-20-14; 8:45 am]

BILLING CODE 3510-08-P